DEPARTMENT OF COMMERCE

National Oceanic and Atmospheric Administration

RIN 0648-XK46

Marine Mammals; File No. 13430

AGENCY: National Marine Fisheries Service (NMFS), National Oceanic and Atmospheric Administration (NOAA), Commerce.

ACTION: Notice; issuance of permit amendment.

SUMMARY: Notice is hereby given that a major amendment to Permit No. 13430-01 has been issued to the NMFS National Marine Mammal Laboratory (Responsible Party: John Bengtson, Ph.D.), 7600 Sand Point Way, NE., BIN C15700, Bldg. 1, Seattle, WA 98115-0070.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Courtney Smith, (301) 427-8401.

SUPPLEMENTARY INFORMATION: On June 23, 2014, notice was published in the Federal Register (79 FR 35524) that a request for an amendment to Permit No. 13430-01 to conduct research on pinnipeds had been submitted by the above-named applicant. The requested permit amendment has been issued under the authority of the Marine Mammal Protection Act of 1972, as amended (16 U.S.C. 1361 et seq.), and the regulations governing the taking and importing of marine mammals (50 CFR part 216).

Permit No. 13430-01 authorized the permit holder to take Pacific harbor seals (Phoca vitulina), California sea lions (Zalophus californianus), and northern elephant seals (Mirounga angustirostris) within coastal waters and on pinniped rookeries and haul outs of Washington and Oregon and harass Eastern Distinct Population Segment Steller sea lions (Eumetopias jubatus) and Southern Resident killer whales (Orcinus orca). The permit also allowed for a limited number of research related mortality of marine mammals. Permit No. 13430-02 (1) extends the duration of the permit five years, through January 31, 2020; (2) authorizes use of an alternate injectable sedative to reduce stress in harbor seals and California sea lions during handling; and (3) removes takes of Southern Resident killer whales due to additional mitigation measures.

A supplemental environmental assessment (SEA) analyzing the effects of the permitted activities on the human environment was prepared in compliance with the National Environmental Policy Act of 1969 (42 U.S.C. 4321 et seq.). Based on the analyses in the SEA, NMFS determined that issuance of the permit amendment would not significantly impact the quality of the human environment and that preparation of an environmental impact statement was not required. That determination is documented in a Finding of No Significant Impact (FONSI), signed on January 30, 2015.

Dated: February 5, 2015.
Perry F. Gayaldo,
Deputy Director, Office of Protected Resources, National Marine Fisheries Service.

[FR Doc. 2015-03021 Filed 2-12-15; 8:45 am]

BILLING CODE 3510-22-P